NATIONAL AERONAUTICS AND SPACE ADMINISTRATION

[Notice (00-110)]

Agency Information Collection: Submission for OMB Review, Comment Request

AGENCY: National Aeronautics and Space Administration (NASA).

ACTION: Notice of Agency Report Forms Under OMB Review.

SUMMARY: The National Aeronautics and Space Administration has submitted to the Office of Management and Budget (OMB) the following proposal for the collection of information under the provisions of the Paperwork Reduction Act (44 U.S.C. Chapter 35).

DATES: Comments on this proposal should be received on or before October 15, 2000.

ADDRESSES: All comments should be addressed to Mr. Richard Kall, Code HK, National Aeronautics and Space Administration, Washington, DC 20546-0001.

FOR FURTHER INFORMATION CONTACT: Ms. Carmela Simonson, Office of the Chief Information Officer, (202) 358-1223.

Title: NASA simplified acquisition for goods and services with a value of $100,000 or less.

OMB Number: 2700-0086.

Type of Review: Extension.

Need and Uses: Information collection is required to evaluate bids and proposals from offerors in order to award purchase orders and to use bank cards for required goods and services in support of NASA's mission and for the administrative requirements from such orders.

Affected Public: Business or other for-profit, Not-for-profit institutions, State, Local or Tribal Government.

Number of Respondents: 250,865.

Responses Per Respondent: 1.

Annual Responses: 250,865.

Hours Per Request: 15-20 min.

Annual Burden Hours: 73,380.

Frequency of Report: On occasion.

David B. Nelson,
Deputy Chief Information Officer, Office of the Administrator.

[FR Doc. 00-23785 Filed 9-14-00; 8:45 am]

BILLING CODE 7510-01-P